COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add a product and a service to the Procurement List that will be furnished by nonprofit agencies employing persons who are blind or have other severe disabilities, and deletes products and services previously furnished by such agencies.

DATES: Comments must be received on or before: April 5, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

NSNs—Product Names:

7490-00-NIB-0054—Scale, Shipping, Digital, 25 LB. Capacity, Black/Metallic

Mandatory Source of Supply: Asso. for the Blind and Visually Impaired-Goodwill Industries of Greater Rochester, Inc., Rochester, NY

Mandatory For: Total Government Requirement

Contracting Activity: FEDERAL ACQUISITION SERVICE, GSA/FAS ADMIN SVCS ACQUISITION BR(2

Service

Service Type: Mess Attendant Service

Mandatory for: US Air Force, F.E. Warren Air Force Base, WY

Mandatory Source of Supply: Skils'kin, Spokane, WA

Contracting Activity: DEPT OF THE AIR FORCE, Air Force Nonappropriated Funds Purchasing Office, San Antonio, TX

Deletions

The following products and services are proposed for deletion from the Procurement List:

Products

NSNs—Product Names:

8440-00-270-0537—(Clip Only)

8440-00-412-2314—(Clip Only)

8440-00-412-2342—(Clip Only)

8440-00-269-5311—(Webbing & Clip)

8440-00-577-4178—(Webbing & Clip)

8440-00-753-6365—(Webbing & Clip)

Mandatory Source of Supply: Travis Association for the Blind, Austin, TX

Contracting Activity: DLA TROOP SUPPORT, PHILADELPHIA, PA

NSN—Product Name:

7350-00-838-3919—Toothpicks

Mandatory Source of Supply: Volunteers of America, Dakotas, Sioux Falls, SD

Contracting Activity: GSA/FSS GREATER SOUTHWEST ACQUISITI, FORT WORTH, TX

Services

Service Type: Repair/Maintenance of Manual Typewriters

Mandatory for: Federal Court House Building, Syracuse, NY

Contracting Activity: GENERAL SERVICES ADMINISTRATION, FPDS AGENCY COORDINATOR

Service Type: Elevator Operation

Mandatory for: U.S. Federal Building: 35 Ryerson Street, Brooklyn, NY

Mandatory Source of Supply: Fedcap Rehabilitation Services, Inc., New York, NY

Contracting Activity: GENERAL SERVICES ADMINISTRATION, FPDS AGENCY COORDINATOR

Patricia Briscoe,
Deputy Director, Business Operations (Pricing and Information Management).

[FR Doc. 2020-04608 Filed 3-5-20; 8:45 am]

BILLING CODE 6353-01-P